NATIONAL AERONAUTICS AND SPACE ADMINISTRATION

[Notice (10-103)]

NASA Advisory Council; Science Committee; Meeting.

AGENCY: National Aeronautics and Space Administration.

ACTION: Notice of meeting.

SUMMARY: In accordance with the Federal Advisory Committee Act, Public Law 92-463, as amended, the National Aeronautics and Space Administration (NASA) announces a meeting of the Science Committee of the NASA Advisory Council (NAC). This Committee reports to the NAC. The Meeting will be held for the purpose of soliciting from the scientific community and other persons scientific and technical information relevant to program planning.

DATES: Tuesday, September 28, 2010, 8:30 a.m. to 1 p.m., Local Time.

ADDRESSES: This meeting will take place telephonically and by WebEx. Any interested person may call the USA toll free conference call number 888-566-6137, pass code SC2010, to participate in this meeting by telephone. International callers may contact Ms. Marian Norris for country-specific conference call numbers. The WebEx link is https://nasa.webex.com/, meeting number 998 561 086, and password $CSept28.

FOR FURTHER INFORMATION CONTACT: Ms. Marian Norris, Science Mission Directorate, NASA Headquarters, Washington, DC 20546, (202) 358-4452, fax (202) 358-4118, or mnorris@nasa.gov.

SUPPLEMENTARY INFORMATION: The agenda for the meeting includes the following topics:

—Astronomy & Astrophysics Decadal Survey report.

—Cost Containment.

—Program & Subcommittee Updates.

—Open domain publishing pilot program.

It is imperative that the meeting be held on this date to accommodate the scheduling priorities of the key participants.

Dated: August 31, 2010.
P. Diane Rausch,
Advisory Committee Management Officer, National Aeronautics and Space Administration and Space Administration.

[FR Doc. 2010-22117 Filed 9-3-10; 8:45 am]

BILLING CODE 7510-13-P